DEPARTMENT OF COMMERCE

National Oceanic and Atmospheric Administration

[I.D. 010305A]

Fisheries of the South Atlantic, Gulf of Mexico, and Caribbean; Southeastern Data, Assessment, and Review (SEDAR) Steering Committee Meeting

AGENCY: National Marine Fisheries Service (NMFS), National Oceanic and Atmospheric Administration (NOAA), Commerce.

ACTION: Notice of the Southeastern Data, Assessment, and Review (SEDAR) Steering Committee meeting.

SUMMARY: The SEDAR Steering Committee will meet to discuss the SEDAR schedule; receive updates on SEDAR 7, Gulf of Mexico red snapper and SEDAR 8, Caribbean yellowtail snapper and spiny lobster; discuss the process for conducting assessment updates; establish the assessment schedule for 2005 and 2006; and clarify objectives for the 2005 CY budget. See SUPPLEMENTARY INFORMATION.

DATES: The SEDAR Steering Committee will meet on Tuesday, February 1, 2005, from 8:30 am to 5:30 pm; and Wednesday, February 2, 2005, from 8:30 am to 1 pm.

ADDRESSES: The meeting will be held at the Hampton Inn and Suites, 678 Citadel Haven Drive, Charleston SC 29414, Phone: 800-426-7866 or 843-573-1200/Fax: 843-556-6078.

FOR FURTHER INFORMATION CONTACT: John Carmichael, SEDAR Coordinator, SEDAR/SAFMC, One Southpark Circle, Suite 306, Charleston, S.C., 29407; phone 843/571-4366 or toll free 866/SAFMC-10; FAX 843/769-4520.

SUPPLEMENTARY INFORMATION: The South Atlantic, Gulf of Mexico, and Caribbean Fishery Management Councils; in conjunction with NOAA Fisheries, the Atlantic States Marine Fisheries Commission, and the Gulf States Marine Fisheries Commission; implemented the SEDAR process, a multi-step method for determining the status of fish stocks. The SEDAR Steering Committee provides oversight of the SEDAR process and establishes assessment priorities.

Special Accommodations

These meetings are physically accessible to people with disabilities. Requests for sign language interpretation or other auxiliary aids should be directed to the South Atlantic Fishery Management Council office at the address listed above at least 5 business days prior to the meeting.

January 4, 2005.
Alan D. Risenhoover,
Acting Director, Office of Sustainable Fisheries, National Marine Fisheries Service.

[FR Doc. E5-28 Filed 1-6-05; 8:45 am]

BILLING CODE 3510-22-S